DEPARTMENT OF DEFENSE

Office of the Secretary

[Transmittal No. 24-85]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-85, Policy Justification, and Sensitivity of Technology.

Dated: November 18, 2025.
Stephanie J. Bost,
Alternate OSD Federal Register Liaison Officer, Department of Defense.

BILLING CODE 6001-FR-P

BILLING CODE 6001-FR-C

Transmittal No. 24-85

Notice of Proposed Issuance of Letter of Offer Pursuant to Section 36(b)(1) of the Arms Export Control Act, as amended

(i) Prospective Purchaser: Government of Italy

(ii) Total Estimated Value:

Major Defense Equipment * | $212 million
Other | $526 million
TOTAL | $738 million

(iii) Description and Quantity or Quantities of Articles or Services under Consideration for Purchase:

Major Defense Equipment (MDE):

Six (6) Unmanned Aerial System (UAS) MQ-9 Block 5 Aircraft

Three (3) Unmanned Aerial System (UAS) MQ-9 Mobile Ground Control Stations (MGCS)

Twelve (12) AN/DAS-4 Multi-spectral Target Systems

Nine (9) LYNX AN/APY-8 Block 20A Synthetic Aperture Radars with Maritime Wide Area Surveillance (MWAS) capability

One (1) Embedded Global Positioning & Inertial Navigation System (EGI)

Non-Major Defense Equipment:

The following non-MDE items will also be included: Reaper/Predator engines; Ruggedized Aircraft Maintenance Test Stations (RAMTS); AN/ARC-210 Ultra High Frequency (UHF)/Very High Frequency (VHF) Radios (RT-2036); Ground Data Terminals (GDT) (line of sight link); AN/PYQ-10 Simple Key Loaders; KIV-77 Identification Friend or Foe (IFF) Cryptographic Applique; Transponder IFF AN/APX-119; KY100M Narrowband/Wideband terminal communications security (COMSEC) device; UAS MQ-9 Fixed Ground Control System (FGCS); satellite communications (SATCOM) Earth Terminal Subsystems (SETSS); precision navigation; integration and test support and equipment; aircraft or engine support equipment; spare parts, consumables and accessories, and repair and return support; major modifications, maintenance, and maintenance support; facilities and construction support; transportation and airlift support; classified and unclassified software delivery and support; classified and unclassified publications and technical documentation; personnel training and training equipment; special insurance and warranties; studies and surveys; United States (U.S.) Government and contractor engineering, technical, and logistics support services; and other related elements of logistics and program support.

(iv) Military Department: Air Force (IT-D-SAB)

(v) Prior Related Cases, if any: IT-D-SAG

(vi) Sales Commission, Fee, etc., Paid, Offered, or Agreed to be Paid: None known at this time

(vii) Sensitivity of Technology Contained in the Defense Article or Defense Services Proposed to be Sold: See Attached Annex

(viii) Date Report Delivered to Congress: August 15, 2024

* as defined in Section 47(6) of the Arms Export Control Act.

POLICY JUSTIFICATION

Italy—MQ-9 Block 5 Aircraft

The Government of Italy has requested to buy six (6) Unmanned Aerial System (UAS) MQ-9 Block 5 Aircraft; three (3) Unmanned Aerial System (UAS) MQ-9 Mobile Ground Control Stations (MGCS); twelve (12) AN/DAS-4 Multi-spectral Target Systems; nine (9) LYNX AN/APY-8 Block 20A Synthetic Aperture Radars with Maritime Wide Area Surveillance (MWAS) capability; and one (1) Embedded Global Positioning & Inertial Navigation System (EGI). The following non-MDE items will also be included: Reaper/Predator engines; Ruggedized Aircraft Maintenance Test Stations (RAMTS); AN/ARC-210 Ultra High Frequency (UHF)/Very High Frequency (VHF) Radios (RT-2036); Ground Data Terminals (GDT) (line of sight link); AN/PYQ-10 Simple Key Loaders; KIV-77 Identification Friend or Foe (IFF) Cryptographic Applique; Transponder IFF AN/APX-119; KY100M Narrowband/Wideband terminal communications security (COMSEC) device; UAS MQ-9 Fixed Ground Control System (FGCS); satellite communications (SATCOM) Earth Terminal Subsystems (SETSS); precision navigation; integration and test support and equipment; aircraft or engine support equipment; spare parts, consumables and accessories, and repair and return support; major modifications, maintenance, and maintenance support; facilities and construction support; transportation and airlift support; classified and unclassified software delivery and support; classified and unclassified publications and technical documentation; personnel training and training equipment; special insurance and warranties; studies and surveys; U.S. Government and contractor engineering, technical, and logistics support services; and other related elements of logistics and program support. The estimated total cost is $738 million.

This proposed sale will support the foreign policy goals and national security objectives of the U.S. by improving the security of a NATO Ally that is a force for political stability and economic progress in Europe.

The proposed sale will improve Italy's capability to meet current and future threats by expanding and improving the Italian Air Force's MQ-9 fleet and advancing U.S. and NATO policy goals of security and interoperability. Italy already has MQ-9 Block 5 aircraft with strike capabilities in its inventory and will have no difficulty absorbing these articles into its armed forces.

The proposed sale of this equipment and support will not alter the basic military balance in the region.

The principal contractor will be General Atomics, located in San Diego, CA. There are no known offset agreements proposed in connection with this potential sale.

Implementation of this proposed sale will not require the assignment of any additional U.S. Government or contractor representatives to Italy.

There will be no adverse impact on U.S. defense readiness as a result of this proposed sale.

Transmittal No. 24-85

Notice of Proposed Issuance of Letter of Offer Pursuant to Section 36(b)(1) of the Arms Export Control Act

Annex

Item No. vii

(vii) Sensitivity of Technology:

1. The MQ-9A Block 5 is a Medium Altitude Long-Endurance (MALE) Unmanned Aerial System (UAS) that can be used for surveillance, military reconnaissance, and targeting missions. Real-time missions are flown under the control of a pilot in a Ground Control Station (GCS). A datalink is maintained that uplinks control commands and downlinks video with telemetry data. Line-of-Sight (LOS) communication is enabled through C-Band datalink and Beyond-Line-of-Sight (BLOS) communication is enabled through Ku-Band Satellite Communication (SATCOM). Control of the aircraft and payload are done through direct manual inputs by the crew or through preprogrammed mission. Preprogrammed missions are planned and uploaded by the pilots via the GCS and are executed through the control of an onboard suite of redundant computers and sensors. Payload imagery and data are downlinked to the GCS. The pilot may initiate pre-programmed missions once the aircraft is airborne and lands the aircraft when the mission is completed. Pilots can change preprogrammed mission parameters as often as required. When operated BLOS, aircraft control is given to other strategically placed Ground Control Stations—permitting remote split operations (RSO). The MQ-9A Block 5 is designed to carry 850 pounds of internal payload with maximum fuel and can carry multiple mission payloads aloft. The MQ-9A Block 5 will be configured for the following payloads: Electro-Optical/Infrared (E.O./IR), Synthetic Aperture Radar (SAR), Electronic Support Measures (ESM), Signals Intelligence (SIGINT), laser designators, and various weapons packages.

a. The GCS can be either fixed or mobile; both versions incorporate workstations that allow operators to control and monitor the aircraft, as well as record and exploit downlinked payload data.

b. The M-Code capable Embedded Global Positioning System/Inertial Navigation System (GPS/INS) (EGI), with an embedded GPS Precise Positioning Service (PPS) Receiver Application Module-Standard Electronic Module (GRAM-S/M), is a self-contained navigation system that provides acceleration, velocity, position, attitude, platform azimuth, magnetic and true heading, altitude, body angular rates, time tags, and coordinated universal time (UTC) synchronized time. The embedded GRAM-S/M enables access to both the encrypted P(Y) and M-Code signals, providing protection against active spoofing attacks, enhanced military exclusivity, integrity, and anti-jam.

c. The C-Band Line-of-Sight (LOS) Ground Data Terminals and Ku-Band SATCOM GA-ASI Transportable Earth Stations (GATES), or equivalent, provide command, control, and data acquisition for the MQ-9.

2. The Ruggedized Aircraft Maintenance Test Station (RAMTS) is a mobile test station used to perform diagnostic and operational checks on the MQ-9.

3. The AN/APY-8 Lynx Synthetic Aperture Radar (SAR) and Ground Moving Target Indicator (GMTI) system provides all-weather surveillance, tracking and targeting for military and commercial customers from manned and unmanned vehicles.

4. The AN/APX-119 is an Identification Friend or Foe (IFF) transponder that provides military aircraft with a secure combat identification capability to help reduce fratricide and enhance battlespace awareness. It also provides safe access to civilian airspace.

5. The KIV-77 is a cryptographic applique for IFF. It can be loaded with Mode 5 classified elements.

6. The KY-100M is a cryptographic-modernized lightweight terminal for secure voice and data communications. The KY-100M provides wideband as well as narrowband half-duplex communication. Operating in tactical ground, marine, and airborne applications, the KY-100M enables secure communication with a broad range of radio and satellite equipment.

7. The AN/PYQ-10 Simple Key Loader is a handheld device used for securely receiving, storing, and transferring data between compatible cryptographic and communications equipment.

8. The highest level of classification of defense articles, components, and services included in this potential sale is SECRET.

9. If a technologically advanced adversary were to obtain knowledge of the specific hardware and software elements, the information could be used to develop countermeasures that might reduce weapon system effectiveness or be used in the development of a system with similar or advanced capabilities.

10. A determination has been made that Italy can provide substantially the same degree of protection for the sensitive technology being released as the U.S. Government. This sale is necessary in furtherance of the U.S. foreign policy and national security objectives outlined in the Policy Justification.

11. All defense articles and services listed in this transmittal have been authorized for release and export to the Government of Italy.

[FR Doc. 2025-20510 Filed 11-20-25; 8:45 am]

BILLING CODE 6001-FR-P